POSTAL SERVICE

Privacy Act of 1974; System of Records

AGENCY: Postal Service™.

ACTION: Notice of modification to existing systems of records.

SUMMARY: The United States Postal Service® (Postal Service) is proposing to modify a General Privacy Act System of Records. These updates will account for an additional data element that the Postal Service uses to identify applicants, as well as how employee and applicant information is retrieved after a complaint or inquiry is received by the Postal Service from an employee or applicant who is deaf or hard of hearing.

DATES: These revisions will become effective without further notice on January 27, 2014 unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582.

SUPPLEMENTARY INFORMATION: This notice is in accordance with the Privacy Act requirement that agencies publish their amended systems of records in the Federal Register when there is a revision, change, or addition. The Postal Service™ has reviewed this system of records and has determined that this General Privacy Act System of Records should be revised to modify categories of records in the system and retrievability.

I. Background

The Postal Service has entered into a settlement to resolve all claims in a national employment discrimination class action lawsuit regarding deaf or hard of hearing employees and applicants. Among other things, the settlement requires the Postal Service to competitively select and enter into a contract with an independent ombudsperson. The ombudsperson will serve for a period of three (3) years, beginning October 29, 2013. In cooperation with the Postal Service Headquarters Disability Program Manager, the ombudsperson will monitor the Postal Service's compliance with the injunctive relief provisions of the settlement through the establishment of a call center and designed email address. Deaf and hard of hearing Postal Service employees will be advised that they can register a comment or concern about communication accommodation issues via a designated email address and/or through a toll-free number or other device provided by the call center. Deaf and hard of hearing Postal Service employees will further be advised that use of the email address and toll-free number or device to register a comment or concern does not affect their rights to file a grievance or complaint in any other process, nor does it serve as initial contact for any other process such as a grievance or EEO pre-complaint processing pursuant to 29 CFR 1614.105. The Disability Program Manager will provide qualifying deaf and hard of hearing employees and applicants with information regarding how to contact the ombudsperson. Such individuals may register a comment or concern about communication and accommodation issues they have experienced in the workplace or during their employment application process with the Postal Service. To be able to identify and address specific comments and/or concerns, individuals will be asked to supply information specific to them, such as their name, residential addresses, and identification numbers such as their Employee Identification Number (EIN) or Applicant Identification Number (AIN). If necessary, the Ombudsperson will investigate the comments and/or concerns in order to make an independent assessment.

II. Rationale for Changes to USPS Privacy Act Systems of Records

Currently, Postal Service system of records 100.900 Employee Inquiry, Complaint, and Investigative Records does not explicitly permit the Postal Service to collect AINs or retrieve records by AINs or EINs. The system of records 100.900 is being modified to account for the collection of applicant identification numbers from applicants who file an inquiry or complaint with the ombudsperson via the call center or designated email address. Additionally, to facilitate the record location process, retrievability is being updated to include Employee Identification Numbers and Applicant Identification Numbers.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected systems are as follows:

USPS 100.900

SYSTEM NAME:

Employee Inquiry, Complaint, and Investigative Record.

Accordingly, for the reasons stated, the Postal Service proposes changes in the existing system of records as follows:

USPS 100.900

SYSTEM NAME:

Employee Inquiry, Complaint, and Investigative Record

CATEGORIES OF RECORDS IN THE SYSTEM

* * * * *

[CHANGE TO READ]

2. Non-employee information: Name, gender, Applicant Identification Number, and contact information.

* * * * *

RETREIVABILITY

[CHANGE TO READ]

By employee and non-employee name, Employee Identification Number, Applicant Identification Number, subject category, facility, finance number, district, area, nationally, or case number.

* * * * *

Stanley F. Mires,
Attorney, Legal Policy & Legislative Advice.

[FR Doc. 2013-31105 Filed 12-26-13; 8:45 am]

BILLING CODE 7710-12-P